DEPARTMENT OF JUSTICE

Notice of Lodging of Partial Consent Decree for Interim Injunctive Relief Under the Clean Air Act

Under 28 CFR 50.7, notice is hereby given that on May 23, 2000, a proposed Partial Consent Decree for Interim Injunctive Relief (“Partial Consent Decree”) in United States v. IBP, Inc., Civil Action No. 8:00-CV-28, was lodged with the United States District Court for the District of Nebraska.

In this action the United States seeks injunctive relief and civil penalties for IBP's past violations of the Clean Air Act and other environmental laws at its meatpacking plant and associated tannery and wastewater treatment facility in Dakota City, Nebraska. The United States asserts that IBP failed to install required air pollution control equipment as the company updated its complex from 1989 to 1995, and, as a result, illegally emitted an excessive amount of hydrogen sulfide into the air.

Under the Partial Consent Decree, IBP will build three new covered wastewater treatment lagoons by November 30, 2000; decommission its existing, uncovered lagoons that are largely responsible for emissions of approximately one ton each day of hydrogen sulfide; and undertake additional projects to limit the release of hydrogen sulfide into the air. The new lagoons will capture hydrogen sulfide generated by the wastewater and route it for treatment to a scrubber and flare. Any future uses of these lagoons will require approval by the Nebraska Department of Environmental Quality, subject to EPA's oversight.

The Partial Consent Decree further requires IBP to treat over three million gallons of well water used at its plant each day, in order to reduce the high concentration of sulfate in the well water, which breaks down into sulfides and in turn can be converted to hydrogen sulfide in wastewater.

The Partial Consent Decree also incorporates the work required under an Administrative Order on Consent entered into by EPA and IBP on April 27, 2000, which agreement requires IBP to install 7 on-site and 2 off-site air monitoring devices to monitor emissions of hydrogen sulfide from its Dakota City wastewater treatment facility.

The Partial Consent Decree today does not resolve the claims in the United States' lawsuit, but will provide relief to local citizens from IBP's hydrogen sulfide emissions as the case proceeds.

The Department of Justice will receive for a period of thirty (30) days from the date of this publication comments relating to the Partial Consent Decree. Comments should be addressed to the Assistant Attorney General, Environment and Natural Resources Division, P.O. Box 7611, U.S. Department of Justice, Washington, D.C. 20044-7611, and should refer to United States v.IBP, Inc., Civil Action No. 8:00-CV-28, D.J. Ref. 90-11-3-06517/3.

The Partial Consent Decree may be examined at the Office of the United States Attorney, 487 Federal Building, 100 Centennial Mall North, Lincoln, NE 68508, and at U.S. EPA Region 7, 901 N. 5th St., Kansas City, Kansas 66101. A copy of the Partial Consent Decree may also be obtained by mail from the Consent Decree Library, P.O. Box 7611, U.S. Department of Justice, Washington, D.C., 20044-7611. In requesting a copy, please enclose a check in the amount of $34.50 (25 cents per page reproduction cost) payable to the Consent Decree Library. In requesting a copy exclusive of exhibits please enclose a check in the amount of $15.25 (25 cents per page reproduction cost) payable to the Consent Decree Library.

Bruce S. Gelber,
Deputy Chief, Environmental Enforcement Section, Environment and Natural Resources Division.

[FR Doc. 00-13905 Filed 6-2-00; 8:45 am]

BILLING CODE 4410-15-M